SECURITIES AND EXCHANGE COMMISSION

[Release No. 34-88080; File No. SR-NYSE-2019-68]

Self-Regulatory Organizations; New York Stock Exchange LLC; Notice of Designation of Longer Period for Commission Action To Determine Whether To Approve or Disapprove a Proposed Rule Change To Amend NYSE's Rules To Add New Rule 7.19 (Pre-Trade Risk Controls)

January 29, 2020.

On November 27, 2019, New York Stock Exchange LLC (“NYSE” or “Exchange”) filed with the Securities and Exchange Commission (“Commission”), pursuant to Section 19(b)(1) of the Securities Exchange Act of 1934 (“Act”) ¹ and Rule 19b-4 thereunder,² a proposed rule change to adopt NYSE Rule 7.19 to provide for optional pre-trade risk controls. The proposed rule change was published for comment in the Federal Register on December 17, 2019.³ The Commission has received two comment letters.⁴

¹ 15 U.S.C.78s(b)(1).

² 17 CFR 240.19b-4.

³ See Securities Exchange Act Release No. 87715 (Dec. 11, 2019), 84 FR 68995 (Dec. 17, 2019).

⁴ See Letter, dated January 7, 2020, to Vanessa Countryman, Secretary, Commission, from Murray Pozmanter, Managing Director, Head of Clearing Agency Services and GOCS, DTCC. See also Letter, dated January 7, 2020, to Vanessa Countryman, Secretary, Commission, from Tom Barrett, Managing Director, Goldman Sachs & Co. LLC.

Section 19(b)(2) of the Act ⁵ provides that, within 45 days of the publication of notice of the filing of a proposed rule change, or within such longer period up to 90 days as the Commission may designate if it finds such longer period to be appropriate and publishes its reasons for so finding, or as to which the self-regulatory organization consents, the Commission shall either approve the proposed rule change, disapprove the proposed rule change, or institute proceedings to determine whether the proposed rule change should be approved or disapproved. The 45th day after publication of the notice for this proposed rule change is January 31, 2020. The Commission is extending this 45-day time period.

⁵ 15. U.S.C. 78s(b)(2).

The Commission finds it is appropriate to designate a longer period within which to take action on the proposed rule change so that it has sufficient time to consider the proposed rule change. Accordingly, the Commission, pursuant to Section 19(b)(2) of the Act,⁶ designates March 16, 2020 as the date by which the Commission shall either approve or disapprove, or institute proceedings to determine whether to disapprove, the proposed rule change (File No. SR-NYSE-2019-68).

⁶ Id.

For the Commission, by the Division of Trading and Markets, pursuant to delegated authority.⁷
⁷ 17 CFR 200.30-3(a)(57).
J. Matthew DeLesDernier,
Assistant Secretary.

[FR Doc. 2020-02052 Filed 2-3-20; 8:45 am]

BILLING CODE 8011-01-P